DEPARTMENT OF LABOR

Employment and Training Administration

Renewal of the Native American Employment and Training Council (NAETC) Charter

AGENCY: Employment and Training Administration, Labor.

ACTION: Renewal of the Native American Employment and Training Council (NAETC) Charter.

SUMMARY: Notice is hereby given of the renewal of the Workforce Innovation and Opportunity Act (WIOA), section 166 Indian and Native American Programs Charter that is necessary and in the public interest. Accordingly, the U.S. Department of Labor (the Department), Employment and Training Administration (ETA) has renewed the NAETC Charter for two years with revisions. The revisions are not intended to change the purpose or the Council's original intent. The revisions include language regarding the use of proxies and changes to the membership balance plan. The Council Charter expired on September 9, 2015.

SUPPLEMENTARY INFORMATION: Background: Pursuant to WIOA section 166(i)(4)(C), the NAETC advises the Secretary on the operation and administration of the Native American programs authorized under section 166 of WIOA. In addition, the Council advises the Secretary on matters that promote the employment and training needs of Indian and Native Americans, as well as enhance the quality of life in accordance with the Indian Self-Determination Act and Education Assistance Act. The Council also provides guidance to the Secretary on how to make DOL discretionary funding and other special initiatives more accessible to federally recognized tribes, Alaska Native entities, and Native Hawaiian organizations. The charter is required to be renewed every two years. The charter expired on September 9, 2015. The NAETC recommendations and accomplishments have and continue to assist ETA and the Secretary in making policy decisions that impact Native Americans, Alaska Natives and Native Hawaiian communities

Summary of Revisions: The charter is being renewed to reference updates from the Workforce Investment Act to WIOA, and the following changes: Clarification that the Council's Designated Federal Officer (DFO) accepts reports on behalf of the Secretary; an increase in estimated annual operating costs and estimated staff years from a half of a full-time employee (FTE) to one FTE; a definitive range in the number of members; a clarification that the Council consult with the DFO to confirm the Department's approval for the Council to create a subcommittee or workgroup; and language outlining the use of proxy voting. All revisions are self-explanatory and/or provide clarification of existing procedures, with the exception of the proxy voting. The “Objectives and Scope of Activity” section includes language that specifies the Council's purpose, focus, and mission; section 5 clarifies that the DFO will accept reports on behalf of the Secretary; section 7 increased the estimated annual operating costs for the Council and increases the estimated staff years from .5 FTE to 1 FTE. Section 12 added “Voting” to the title of this section and includes language that provides a definitive range in the number of members and additional language that outlines the use of proxy voting. Changes to the language reads: “If a member is unable to attend a meeting, he or she may notify the DFO in writing and request the DFO's approval to permit another member of the same tribe, organization, or entity to vote on behalf of such member on all matters coming before the Council during that particular meeting. Notice of a proxy's attendance must be given at least 48 hours in advance of the scheduled meeting. A record of the notification and approval will be kept, and written notice includes email notification. Proxies will be counted when calculating whether a quorum is present at the Council meeting.” This change provides a process for ensuring a balanced Council in the event a Council member is unable to attend a meeting. The member will notify the DFO and request that another member of the same tribe, organization or entity be permitted to vote in their place; but only on the matters before the Council during that particular meeting. This will also ensure that in the event a member is unable to attend a scheduled Council meeting, a balanced membership is maintained for voting purposes. This is the first time that the Department has incorporated the use of proxy/alternate voting on advisory committees, and although it is intended to address the issue of a balanced membership, it is alternatively emphasized that it is important that the members who have been vetted and approved to serve on the Council attend the meetings if they are available and able to participate in person or via teleconference. Proxies should only be used on exceptional occasions. Members are also required to provide notice in writing 48 hours in advance of the scheduled meeting so that the Agency can ensure a balance will be maintained and that there are no conflicts of interest presented by the proxy.

FOR FURTHER INFORMATION CONTACT: Athena Brown, Designated Federal Officer, Office of Workforce Investment, Employment and Training Administration, U.S. Department of Labor, Room S-4209, 200 Constitution Avenue NW., Washington, DC 20210. Telephone: (202) 693-3737, (this is not a toll-free number).

Portia Wu,
Assistant Secretary, Assistant Secretary, Employment and Training Administration.

[FR Doc. 2015-25899 Filed 10-9-15; 8:45 am]

BILLING CODE 4510-FR-P